DEPARTMENT OF ENERGY

Federal Energy Regulatory Commission

[Docket No. CP06-86-000]

CenterPoint Energy Gas Transmission Company; Notice of Request Under Blanket Authorization

March 16, 2006.

Take notice that on March 10, 2006, CenterPoint Energy Gas Transmission Company (CEGT), 1111 Louisiana Street, Houston, Texas 77002-5231, filed in Docket No. CP06-86-000, a request pursuant to Sections 157.205 and 157.216 of the Commission's Regulations under the Natural Gas Act (18 CFR Sections 157.205 and 157.216) for authorization to abandon certain facilities in the State of Louisiana, under CEGT's blanket certificate issued in Docket Nos. CP82-384-000 and 001 pursuant to section 7(c) of the Natural Gas Act, all as more fully set forth in the application which is on file with the Commission and open to public inspection. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

CEGT proposes to abandon, by sale and transfer, certain above-ground facilities that are currently a part of various CEGT delivery point facilities in the State of Louisiana as described more fully in the request. CEGT further proposes to sell and transfer these facilities to CenterPoint Energy Louisiana Gas, a distribution division of CenterPoint Energy Gas Resources Corp, d/b/a, at the estimated net book value, which as of December 31, 2005 is $14,895.43. CEGT states that no services would be abandoned as a result of the proposed sale and transfer. Louisiana Gas, it is said, would own and operate these facilities as part of its distribution system.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Any questions regarding this application should be directed to Lawrence O. Thomas, Director—Rates & Regulatory, CenterPoint Energy Gas Transmission Company, P.O. Box 21734, Shreveport, Louisiana 71151, or call (318) 429-2804 or fax (318) 429-3133.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E6-4249 Filed 3-23-06; 8:45 am]

BILLING CODE 6717-01-P